DEPARTMENT OF TRANSPORTATION

Pipeline and Hazardous Materials Safety Administration

[Docket No. PHMSA-2018-0109]

Pipeline Safety: Information Collection Activities, Gas and Liquid Pipeline Safety Program Certification

AGENCY: Pipeline and Hazardous Materials Safety Administration (PHMSA), DOT.

ACTION: Notice and request for comments.

SUMMARY: In compliance with the Paperwork Reduction Act of 1995, this notice announces that the information collection request abstracted below is being forwarded to the Office of Management and Budget (OMB) for review and comment. PHMSA proposes revising certain parts of both the Natural Gas and Hazardous Liquid Base Grant Progress reports to make the data collected consistent with the data collected through the Pipeline Data Mart. A Federal Register notice with a 60-day comment period soliciting comments on the information collection was published on November 26, 2018.

DATES: Interested persons are invited to submit comments on or before March 18, 2019.

FOR FURTHER INFORMATION CONTACT: Angela Hill by telephone at 202-366-1246, by email at angela.dow@dot.gov, or by mail at DOT, PHMSA, 1200 New Jersey Avenue SE, PHP-30, Washington, DC 20590-0001.

ADDRESSES: Submit comments regarding the burden estimate, including suggestions for reducing the burden, to the Office of Management and Budget, Attention: Desk Officer for the Office of the Secretary of Transportation, 725 17th Street NW, Washington, DC 20503.

SUPPLEMENTARY INFORMATION: Section 1320.8(d), Title 5, Code of Federal Regulations, requires PHMSA to provide interested members of the public and affected agencies an opportunity to comment on information collection and recordkeeping requests. In accordance with this regulation, on November 26, 2018, (83 FR 60557) PHMSA published a Federal Register notice with a 60-day comment period soliciting comments on the information collection. In response, PHMSA received comments from the Pipeline Safety Trust and Vectren Corporation. The Pipeline Safety Trust requests that PHMSA add additional reporting requirements to this information collection to improve PHMSA's oversight of state grants and to fill agency-identified data gaps. Vectren Corporation supports the information collection, but notes that it could be improved by more detailed reporting instructions and more specific, consistent definitions for data and reporting.

The data obtained from this information collection reflects State Program activities that measure program performance and how grant funds are being used. Separate efforts are currently underway to address the feasibility study of a Nationwide Integrated Pipeline Safety Regulatory Database and all options are being considered to help with this process. PHMSA also streamlined data fields in both the Natural Gas and Hazardous Liquid Base Grant Progress Reports to make the forms easier to read and follow.

A summary of changes is below:

• Gas LNG operator categories listed together instead of separately.

• Hazardous liquid operator categories renamed to be consistent with Pipeline DataMart.

• Incident/Accident cause listing updated to match annual reports and Pipeline DataMart.

• Updated maximum civil penalties to current DOT level.

The burden for this information collected has also been updated to account for a more accurate number of submissions received annually. PHMSA previously expected to receive 116 responses to this information collection request. PHMSA has since updated that estimate to 66 responses (51 gas programs and 15 hazardous liquid programs). The estimated time burden for completing the annual submission is 58.5 hours. PHMSA will submit the information collection, as described below, to OMB for approval.

The following information is provided for this information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for the following information collection:

Title: Gas Pipeline Safety Program Certification and Hazardous Liquid Pipeline Safety Program Certification.

OMB Control Number: 2137-0584.

Current Expiration Date: 02/28/2019.

Abstract: A state must submit an annual certification to assume responsibility for regulating intrastate pipelines. Certain records must be maintained to demonstrate that the state is ensuring satisfactory compliance with the pipeline safety regulations. PHMSA uses this information to evaluate a state's eligibility to receive federal grants.

Affected Public: State governments.

Annual Reporting and Recordkeeping Burden:

Total Annual Responses: 66.

Total Annual Burden Hours: 3,861.

Frequency of Collection: Annually.

Comments to Office of Management and Budget are invited on:

(a) The need for the proposed information, including whether the information will have practical utility in helping the agency to achieve its pipeline safety goals;

(b) The accuracy of the agency's estimate of the burden of the proposed collection;

(c) Ways to enhance the quality, utility, and clarity of the information to be collected; and

(d) Ways to minimize the burden on those who are to respond, including the use of appropriate automated, electronic, mechanical, or other technological collection techniques.

Authority: The Paperwork Reduction Act of 1995; 44 U.S.C. Chapter 35, as amended; and 49 CFR 1.48.

Issued in Washington, DC, on February 11, 2019, under authority delegated in 49 CFR 1.97.
John A. Gale,
Director, Standards and Rulemaking Division.

[FR Doc. 2019-02316 Filed 2-13-19; 8:45 am]

BILLING CODE 4910-60-P